DEPARTMENT OF ENERGY

Agency Information Collection Revision; Correction

AGENCY: U.S. Department of Energy.

ACTION: Notice correction.

SUMMARY: The Department of Energy (DOE) published in the Federal Register on August 12, 2024, a notice of a Proposed Agency Information Collection Revision. DOE's Office of the Associate General Counsel for Contactor Human Resources had submitted to the Office of Management and Budget (OMB) for clearance, a proposal for a three-year extension, with changes, of a collection of information under the provisions of the Paperwork Reduction Act of 1995. This document makes a correction to that notice (a miscalculation of the burden hours).

FOR FURTHER INFORMATION CONTACT: Oluwatosin Fadarey, Attorney-Adviser (Labor), GC-63, U.S. Department of Energy, 1000 Independence Avenue SW, Washington, DC 20585.

Email: oluwatosin.fadarey@hq.doe.gov

Phone: (240) 751-3745.

SUPPLEMENTARY INFORMATION:

Correction

In the Federal Register of August 12, 2024, FR Doc. 2024-17889 (89 FR 65617), on page 65617, in the second column, under the SUPPLEMENTARY INFORMATION section, the following corrections are made:

(3) Type of Review: Revision;

(7) Annual Estimated Number of Burden Hours: 300;

(8) Annual Estimated Reporting and Recordkeeping Cost Burden: $15,804.

Statutory Authority: 29 CFR 5.7(b).

Signing Authority

This document of the Department of Energy was signed on September 17, 2024, by John T. Lucas, Deputy General Counsel for Business Transactions, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 17, 2024.
Treena V. Garrett,
Federal Register Liaison Officer, U.S. Department of Energy.

[FR Doc. 2024-21657 Filed 9-20-24; 8:45 am]

BILLING CODE 6450-01-P